DEPARTMENT OF THE INTERIOR

National Park Service

[NPS-WASO-PCE-LWCF-14132; PSSSLAD0013.01.4]

Information Collection Request Sent to the Office of Management and Budget (OMB) for Approval; Land and Water Conservation Fund State Assistance Program

AGENCY: National Park Service, Interior.

ACTION: Notice; request for comments.

SUMMARY: We (National Park Service) have sent an Information Collection Request (ICR) to OMB for review and approval. We summarize the ICR below and describe the nature of the collection and the estimated burden and cost. This information collection is scheduled to expire on October 31, 2013. We may not conduct or sponsor and a person is not required to respond to a collection of information unless it displays a currently valid OMB control number. However, under OMB regulations, we may continue to conduct or sponsor this information collection while it is pending at OMB.

DATES: You must submit comments on or before October 23, 2013.

ADDRESSES: Send your comments and suggestions on this information collection to the Desk Officer for the Department of the Interior at OMB—OIRA at (202) 395-5806 (fax) or OIRA_Submission@omb.eop.gov (email). Please provide a copy of your comments to Madonna L. Baucum, Information Collection Clearance Officer, National Park Service, 1849 C Street NW., (2601), Washington, DC 20240 (mail); or madonna_baucum@nps.gov (email). Please include “1024-0031” in the subject line of your comments.

FOR FURTHER INFORMATION CONTACT: To request additional information about this ICR, contact Elisabeth Fondriest at 202-354-6916 (telephone) or at Elisabeth_Fondriest@nps.gov (email). You may review the ICR online at http://www.reginfo.gov. Follow the instructions to review Department of the Interior collections under review by OMB.

SUPPLEMENTARY INFORMATION: OMB Control Number: 1024-0031.

Title: Land and Water Conservation Fund State Assistance Program, 36 CFR 59.

Service Form Numbers: 10-902, 10-902A, and 10-903.

Type of Request: Revision of a currently approved collection.

Description of Respondents: States; the Commonwealths of Puerto Rico and the Northern Mariana Islands; the District of Columbia; and the territories of Guam, U.S. Virgin Islands, and American Samoa.

Number of Respondents: 56.

Respondent's Obligation: Required to obtain or retain a benefit.

Frequency of Collection: On occasion.

Activity | Total annual responses | Completion time per response (hours) | Total annual burden hours
Statewide Comprehensive Outdoor Recreation Plan | 11 | 500 | 5,500
Open Project Selection Process | 11 | 20 | 220
Applications | 250 | 12 | 3,000
Grant Amendments | 180 | 6 | 1,080
Conversions of Use | 50 | 150 | 7,500
Public Facility Requests | 8 | 16 | 128
Request for Temporary Non-Conforming Uses | 5 | 16 | 80
Request for a Significant Change of Use | 2 | 16 | 32
Request to Shelter Facilities | 1 | 16 | 16
Extension of 3-Year Limit for Delayed Outdoor Recreation Development | 5 | 161 | 805
Onsite Inspection Reports | 4,368 | 5.5 | 24,024
Financial and Program Performance Reports | 661 | 1 | 661
Recordkeeping | 56 | 40 | 2,240
Requests for Reimbursement/Record of Electronic Payment | 336 | .5 | 168
Totals | 5,944 |  | 45,454

Estimated Annual Nonhour Burden Cost: None.

Abstract: The Land and Water Conservation Fund Act of 1965 (LWCF Act) (16 U.S.C. 460/-4 et seq.) was enacted to help preserve, develop, and ensure public access to outdoor recreation facilities. The LWCF Act provides funds for and authorizes Federal assistance to the States for planning, acquisition, and development of needed land and water areas and facilities. As used for this information collection, the term “States” includes the 50 States; the Commonwealths of Puerto Rico and the Northern Mariana Islands; the District of Columbia; and the territories of Guam, the U.S. Virgin Islands, and American Samoa.

In accordance with the LWCF Act, we administer the LWCF State Assistance Program, which provides matching grants to States, and through the States to local units of government. The LWCF State Assistance Program gives maximum flexibility and responsibility to the States. States establish their own priorities and criteria and award their grant money through a competitive selection process based on a Statewide recreation plan.

The information collection requirements associated with the LWCF State Assistance Program are currently approved under five OMB control numbers, all of which expire on October 31. 2013. During our review for this renewal, we identified some other existing collection requirements that have not been approved by OMB. In this revision of 1024-0031, we are including all of the information collection requirements for the LWCF State Assistance Program. If OMB approves this revision, we will discontinue OMB Control Numbers 1024-0032, 1024-0033, 1024-0034, and 1024-0047. The information collection requirements for the LWCF State Assistance Program are discussed in detail in our Federal Register notice, February 22, 2013 (78 FR 12349) and the Land and Water Conservation Fund State Assistance Program Federal Financial Assistance Manual, available online at http://www.nps.gov/ncrc/programs/lwcf/manual/lwcf.pdf.

Comments: On February 22, 2013, we published in the Federal Register (78 FR 12349) a notice of our intent to request that OMB approve this information collection. In that notice, we solicited comments for 60 days, ending on April 23, 2013. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: September 18, 2013.
Madonna L. Baucum,
Information Collection Clearance Officer, National Park Service.

[FR Doc. 2013-23064 Filed 9-20-13; 8:45 am]

BILLING CODE 4310-EH-P